COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes services from the Procurement List that were furnished by nonprofit agencies employing persons who are blind or have other severe disabilities.

DATES: Date deleted from the Procurement List: February 23, 2020.

ADDRESSES: Committee for Purchase From People Who Are Blind or Severely Disabled, 1401 S. Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

On 12/20/2019, the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the services to the Government.

3. There are no known regulatory alternatives which would accomplish the objectives of the Javits-Wagner-O'Day Act (41 U.S.C. 8501-8506) in connection with the services deleted from the Procurement List.

End of Certification

Accordingly, the following services are deleted from the Procurement List:

Services

Service Type: Custodial service

Mandatory for: DISA DECC Pacific, 1942 Gaffney Street, Suite 200, Pearl Harbor Naval Station, HI

Mandatory Source of Supply: Opportunities and Resources, Inc., Wahiawa, HI

Contracting Activity: Defense Information Systems Agency (DISA), IT Contracting Division—PL83

Service Type: Microfilming

Mandatory for: Government Printing Office: Program B510-S, Washington, DC

Mandatory Source of Supply: Alliance, Inc., Baltimore, MD

Contracting Activity: Government Printing Office

Service Type: Janitorial/Custodial

Mandatory for: VA Outpatient Clinic, Allentown, PA

Mandatory Source of Supply: Via of the Lehigh Valley, Inc., Bethlehem, PA

Contracting Activity: Veterans Affairs, Department of, NAC

Service Type: Mailing Services

Mandatory for: U.S. Department of Interior: Bureau of Land Management, Oregon State Office, Portland, OR

Mandatory Source of Supply: Relay Resources, Portland, OR

Contracting Activity: Bureau of Land Management, OR—Oregon State Office

Service Type: Cleaning Services

Mandatory for: Laguna Atascosa NWR, Rio Hondo, TX

Mandatory Source of Supply: Training, Rehabilitation, & Development Institute, Inc., San Antonio, TX

Contracting Activity: Office of Policy, Management, and Budget, NBC Acquisition Services Division

Service Type: Janitorial/Custodial

Mandatory for: Department of the Treasury: Birmingham Regional Financial Center (BRFC), Birmingham, AL

Mandatory Source of Supply: Alabama Goodwill Industries, Inc., Birmingham, AL

Contracting Activity: Treasury, Department of the, Dept of Treas/

Service Type: Grounds Maintenance

Mandatory for: USCG, Chief of Staff Quarters, Bethesda, MD

Mandatory for: USCG, Commandant Quarters, Kenwood, MD

Mandatory for: USCG, Vice Commandant Quarters, Bethesda, MD

Mandatory Source of Supply: The Arc of Montgomery County, Inc., Rockville, MD

Contracting Activity: U.S. Coast Guard, U.S. Coast Guard

Patricia Briscoe,
Deputy Director, Business Operations (Pricing and Information Management).

[FR Doc. 2020-01160 Filed 1-23-20; 8:45 am]

BILLING CODE 6353-01-P